DEPARTMENT OF HEALTH AND HUMAN SERVICES

Office of the National Coordinator for Health Information Technology; Announcement of Requirements and Registration for “Consumer Health Data Aggregator Challenge”

AGENCY: Office of the National Coordinator for Health Information Technology, HHS.

ACTION: Notice.

SUMMARY: The Consumer Health Data Aggregator Challenge is intended to spur the development of third-party, consumer-facing applications that use open, standardized Application Programming Interfaces (APIs) to help consumers aggregate their data in one place and under their control. This challenge will focus on solving the problem that many consumers have today—the ability to easily and electronically access their health data from different health care providers using a variety of different health IT systems.

The statutory authority for this challenge competition is Section 105 of the America COMPETES Reauthorization Act of 2010 (Pub. L. 111-358).

DATES:

Phase 1

• Challenge launch: March 1, 2016

• Submissions due: May 30

• Evaluation period: May 31-June 28

• Phase 1 winners announced: June 30

Phase 2

• Submission period begins: May 31

• Submissions due: November 7

• Evaluation period: November 14-December 14

• Phase 2 winners announced: December 15, 2016

FOR FURTHER INFORMATION CONTACT: Adam Wong, adam.wong@hhs.gov (preferred), 202-720-2866.

SUPPLEMENTARY INFORMATION:

Award Approving Official

Karen DeSalvo, National Coordinator for Health Information Technology.

Subject of Challenge Competition

The Consumer Health Data Aggregator Challenge is intended to spur development of third-party applications for consumers that use FHIR to pull their health data into one place. The challenge has two phases. Phase 1 requires the submission of technical and business plans for the application (app) while Phase 2 requires that a working app be available for consumers. Phase 2 of the competition will not be limited to only those who won Phase 1—all Phase 1 competitors, and those who did not participate in Phase 1, can submit a final app at the end of Phase 2.

The final application must meet the following requirements:

• Uses FHIR Draft Standard for Technical Use 2 (DSTU2).

• Aggregate all data as specified in the 2015 Edition Common Clinical Data Set (Data column in https://www.healthit.gov/sites/default/files/commonclinicaldataset_ml_11-4-15.pdf).

• Verified compatibility with different health IT developer systems implemented in production settings, 1 of which must be from the top 10 systems measured by Meaningful Use attestation per HealthIT.gov. Apps must be integrated with a minimum of 3 unique health IT developer systems in 2 unique provider settings.

• Has been tested with patients and used in production settings.

• Available to consumers through at least one of the following modes: mobile Web, iOS Store, or Android Store.

Phase 1

Participants interested in competing for Phase 1 awards will need to submit an app development plan that must include:

• Mockup/wireframes

• Technical specifications, including but not limited to planned data sources, system architecture

• Business/sustainability plan

• Provider partnership

To augment technical development and enhance the likelihood of a successful app that will continue to exist beyond the end of the challenge, a progress update/matchmaking event will be held that will seek to connect participants with provider partners. Up to five app proposals will be recognized as winners and awarded up to $15,000 each.

Phase 2

The second phase will entail the actual development of the apps, verification of technical capabilities, user testing/piloting, and public release of the apps. This will include remote testing with providers and health IT developers to test the technical abilities of the apps to connect to in-production systems. Participants will submit:

• Working prototype of the app

• Video demonstrating the app (maximum of 5 minutes, on YouTube or Vimeo)

• Slide deck describing app (maximum of 10 slides)

The grand prize winner will receive $50,000 and a second place winner will receive $25,000. There will be an additional $25,000 prize for the app that connects to the greatest number of unique health IT developer systems implemented in production settings, which can be won by the grand or 2nd place winner.

Eligibility Rules for Participating in the Competition

To be eligible to win a prize under this challenge, an individual or entity:

1. Shall have registered to participate in the competition under the rules promulgated by the Office of the National Coordinator for Health Information Technology.

2. Shall have complied with all the requirements under this section.

3. In the case of a private entity, shall be incorporated in and maintain a primary place of business in the United States, and in the case of an individual, whether participating singly or in a group, shall be a citizen or permanent resident of the United States.

4. May not be a Federal entity or Federal employee acting within the scope of their employment.

5. Shall not be an HHS employee working on their applications or submissions during assigned duty hours.

6. Shall not be an employee of the Office of the National Coordinator for Health IT.

7. Federal grantees may not use Federal funds to develop COMPETES Act challenge applications unless consistent with the purpose of their grant award.

8. Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Submission Requirements

In order for a submission to be eligible to win this Challenge, it must meet the following requirements:

1. No HHS or ONC logo—The product must not use HHS' or ONC's logos or official seals and must not claim endorsement.

2. Functionality/Accuracy—A product may be disqualified if it fails to function as expressed in the description provided by the user, or if it provides inaccurate or incomplete information.

3. Security—Submissions must be free of malware. Contestant agrees that ONC may conduct testing on the product to determine whether malware or other security threats may be present. ONC may disqualify the product if, in ONC's judgment, the app may damage government or others' equipment or operating environment.

Registration Process for Participants

To register for this Challenge, participants can access http://www.challenge.gov and search for “Consumer Health Data Aggregator Challenge.”

Prize

• Phase 1: Up to 5 winners each receive up to $15,000.

• Phase 2: One final winner receives $50,000; 2nd place receives $25,000; and an additional $25,000 connector prize.

• Total: Up to $175,000 in prizes.

Payment of the Prize

Prize will be paid by contractor.

Basis Upon Which Winner Will Be Selected

The review panel will make selections based upon the following criteria:

Phase 1

• Technical feasibility of plan, including number of EHR sources targeted.

• Adherence to data privacy and security best practices.

• Strength of business/sustainability plan.

• Provider and/or health IT developer partnerships.

Phase 2

• Number, sources, and types of data aggregation using FHIR.

• Functionality and quality of data aggregation.

• Privacy and security of patient data.

• User experience and visual appeal.

Additional Information

General Conditions: ONC reserves the right to cancel, suspend, and/or modify the Contest, or any part of it, for any reason, at ONC's sole discretion.

Intellectual Property: Each entrant retains title and full ownership in and to their submission. Entrants expressly reserve all intellectual property rights not expressly granted under the challenge agreement. By participating in the challenge, each entrant hereby irrevocably grants to Sponsor and Administrator a limited, non-exclusive, royalty-free, worldwide license and right to reproduce, publically perform, publically display, and use the Submission to the extent necessary to administer the challenge, and to publically perform and publically display the Submission, including, without limitation, for advertising and promotional purposes relating to the challenge.

Authority: 15 U.S.C. 3719.

Dated: February 23, 2016.
Karen DeSalvo,
National Coordinator for Health Information Technology.

[FR Doc. 2016-04596 Filed 3-1-16; 11:15 am]

BILLING CODE 4150-45-P